ENVIRONMENTAL PROTECTION AGENCY

(ER-FRL-6615-8)

Environmental Impact Statements and Regulations; Availability of EPA Comments

Availability of EPA comments prepared January 29, 2001 Through February 02, 2001 pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 14, 2000 (65 FR 20157).

Draft EISs

ERP No. D-AFS-L61224-00

Rating LO, Lemhi Pass National Historic Landmark Management Plan, Implementation, Beaverhead-Deerlodge National Forest, Beaverhead County, MT and Salmon-Challis National Forest, Lemhi County, ID.

Summary: EPA expressed lack of objections.

ERP No. D-AFS-L65369-OR

Rating EC2, Mill Creek Timber Sales and Related Activities, To Implement Ecosystem Management Activities, Prospect Ranger District, Rogue River National Forest, Jackson County, OR.

Summary: EPA expressed concerns with potential adverse impacts from roads to water quality and habitat quality, including erosion, mass wasting, fragmentation and the increase of non-native species.

ERP No. D-FHW-D40311-PA

Rating EC2, US Route 15 Improvement Project, from PA-6015, Section G-20 and G-22 Tioga County, Pennsylvania and PIN 6008.22.123 Steuben County, New York, (US Route 15 between PA Route 287 and Presho, New York, Funding and COE Section 404 Permit, Tioga County, PA and Steuben County, NY.

Summary: EPA expressed concerns regarding impacts to terrestrial habitat, streams, wetlands, and residences. EPA requested additional information on minimizing and mitigating potential impacts.

Final EISs

ERP No. F-AFS-G65074-TX

Texas Blowdown Reforestation Project, Implementation, National Forests and Grasslands in Texas, Angeline and Sabine National Forests, San Augustine and Shelby Counties, TX.

Summary: EPA had no additional comments.

ERP No. F-AFS-K65226-00

Sierra Nevada Forest Plan Amendment Project, Implementation, several counties, CA and NV.

Summary: The FEIS only partially addressed our objections regarding the road transportation system and protection to roadless areas. EPA offered qualified support for Modified Alternative B as stated in the FEIS and providing it receives full funding for implementation.

ERP No. F-BIA-L65352-WA

Colville Indian Reservation Integrated Resource Management Plan, Implementation, Colville Indian Reservation, Okanogan and Ferry Counties, WA.

Summary: No formal comment letter was sent to the preparing agency.

ERP No. F-FHW-F40378-MN

TH-23 Reconstruction, MN-TH-22 in Richmond extending through the Cities of Richmond, Cold Spring and Rockville to I-94, Funding, Stearns County, MN.

Summary: EPA continues to express concern that the action does not provide for a sufficient wetland mitigation plan or a sufficient mitigation plan for lost tree/upland habitat.

ERP No. F-NPS-E61075-FL

Dry Tortugas National Park General Management Plan, Implementation, Monroe County, FL.

Summary: EPA continues to express concerns with implementing the management plan including ecosystem monitoring, the level of mitigation for existing and potential future impacts and enforcement of regulations and visitor use.

ERP No. F-NPS-K60030-CA

Legislative EIS—Timbisha Shoshone Tribal Homeland, To Establish a Permanent Tribal Land Base and Related Cooperative Activities, The Transfer of Federal Land and Acquisition of Private Land, Death Valley National Park, Saline Valley, CA and Lida Ranch near Lida, NV.

Summary: No formal comment letter was sent to the preparing agency.

Dated: February 20, 2001.
Joseph C. Montgomery,
Director, NEPA Compliance Division, Office of Federal Activities.

[FR Doc. 01-4528 Filed 2-22-01; 8:45 am]

BILLING CODE 6560-50-U